ENVIRONMENTAL PROTECTION AGENCY

40 CFR Part 300

[FRL-7172-2]

National Oil and Hazardous Substances Pollution Contingency Plan; National Priorities List Update

AGENCY: Environmental Protection Agency.

ACTION: Notice of deletion of the Austin Avenue Radiation Site from the National Priorities List.

SUMMARY: The U.S. Environmental Protection Agency (EPA) announces the deletion of the Austin Avenue Radiation Site in Delaware County, Pennsylvania from the National Priorities List (NPL).

The NPL is appendix B of 40 CFR part 300 which is the National Oil and Hazardous Substances Pollution Contingency Plan (NCP), which EPA promulgated pursuant to section 105 of the Comprehensive Environmental Response, Compensation, and Liability Act of 1980, as amended (CERCLA). The EPA and the Commonwealth of Pennsylvania, through the Pennsylvania Department of Environmental Protection (PADEP), have determined that the Site no longer poses a significant threat to public health or the environment and that all appropriate response actions under CERCLA have been completed.

EFFECTIVE DATE: April 18, 2002.

ADDRESSES: Comprehensive information on the Site is available for viewing at the Site information repositories at the following locations: U.S. EPA Region III, Regional Center for Environmental Information, 1650 Arch Street, Philadelphia, Pennsylvania 19103, (215) 814-5254, Monday through Friday 8 AM to 4:30 PM; Lansdowne Borough Library, 55 South Union Avenue, Lansdowne, PA 19050, (610) 623-0239.

FOR FURTHER INFORMATION CONTACT: David Turner, On-Scene Coordinator (3HS31), U.S. Environmental Protection Agency Region III, 1650 Arch Street, Philadelphia, PA 19103-2029, telephone: 215-814-3216, e-mail address: turner.david@epa.gov.

SUPPLEMENTARY INFORMATION: The site to be deleted from the NPL is: Austin Avenue Radiation Site located in Delaware County, Pennsylvania.

A Notice of Intent to Delete for the Site was published in the Federal Register on February 19, 2002 (67 FR 7324). The closing date for comments on the Notice of Intent to Delete was March 21, 2002. EPA received no comments during the comment period; therefore, EPA has not prepared a Responsiveness Summary.

EPA identifies sites that appear to present a significant risk to public health, welfare or the environment, and it maintains the NPL as the list of those sites. Any site deleted from the NPL remains eligible for Fund-financed remedial actions in the unlikely event that conditions at the site warrant such actions. Section 300.425(e)(3) of the NCP states that Fund-financed actions may be taken at sites deleted from the NPL. Deletion of a site from the NPL does not affect responsible party liability or impede agency efforts to recover costs associated with response efforts.

List of Subjects in 40 CFR Part 300

Environmental protection, Air pollution control, Chemicals, Hazardous substances, Hazardous waste, Intergovernmental relations, Penalties, Reporting and recordkeeping requirements, Superfund, Water pollution control, Water supply.

Dated: April 2, 2002.
Thomas C. Voltaggio,
Acting Regional Administrator, Region III.

For the reasons set out in this document, 40 CFR part 300 is amended as follows:

PART 300—[AMENDED]

1. The authority citation for part 300 continues to read as follows:

Authority: 33 U.S.C. 1321 (c)(2); 42 U.S.C. 9601-9657; E.O. 12777, 56 FR 54757, 3 CFR, 1991 Comp., p.351; E.O. 12580, 52 FR 2923, 3 CFR, 1987 Comp., p. 193.

Appendix B—[Amended]

2. Table 1 of appendix B to part 300 is amended under Pennsylvania (PA) by removing, “Austin Avenue Radiation Site, Delaware County, PA.”

[FR Doc. 02-9216 Filed 4-17-02; 8:45 am]

BILLING CODE 6560-50-P